FEDERAL COMMUNICATIONS COMMISSION

47 CFR Parts 1 and 54

[WC Docket No. 10-90, 07-135, 05-337, 03-109; GN Docket No. 09-51; CC Docket Nos. 01-92, 96-45; and WT Docket No. 10-208; FCC 11-161 and DA 12-147]

Application To Participate in an Auction for Mobility Fund Phase I Support and Application for Mobility Fund Phase I Support

AGENCY: Federal Communications Commission.

ACTION: Final rule; announcement of effective date.

SUMMARY: In this document, the Federal Communications Commission (Commission) announces that the Office of Management and Budget (OMB) has approved, for a period of three years, the information collection associated with certain of the provisions of the rules adopted as part of the Connect America Fund & Intercarrier Compensation Reform Order (Order), FCC 11-161 and a Bureau Order, DA 12-147. This notice is consistent with the Order, which stated that the Commission would publish a document in the Federal Register announcing the effective date of those rules.

DATES: Effective date: Section 1.21001(b) through (d); 1.21002(c) and (d); 1.21004(a); and Section 54.1003; 54.1004(a), (c), and (d); 54.1005(a) and (b); 54.1006(a) through (e); 54.1007(a) and (b); 54.1008(a) and (e), published at 76 FR 78921, December 20, 2011, are effective June 5, 2012.

FOR FURTHER INFORMATION CONTACT: Rita Cookmeyer, Auctions and Spectrum Access Division, Wireless Telecommunications Bureau, at (202) 418-0434, or email: rita.cookmeyer@fcc.gov.

SUPPLEMENTARY INFORMATION: This document announces OMB approval of two information collection requirements contained in the Commission's Order, FCC 11-161, published at 76 FR 78921, December 20, 2011, and Bureau Order published at 77 FR 14297, March 9, 2012. On April 16, 2012, OMB approved the Application to Participate in an Auction for Mobility Fund Phase I Support, FCC Form 180, for a period of three years and on April 27, 2012, OMB approved the Application for Mobility Fund Phase I Support, FCC Form 680, for a period of three years. The OMB Control Number for the FCC Form 180 is 3060-1166 and the OMB Control Number for the FCC Form 680 is 3060-1168. The Commission publishes this notice as an announcement of the effective date of the rules requiring OMB approval. If you have any comments on the burden estimates or how the Commission can improve the collections and reduce any burdens caused thereby, please contact Cathy Williams, Federal Communications Commission, Room 1-C823, 445 12th Street SW., Washington, DC 20554. Please include the OMB Control Number, 3060-1166 or 3060-1168, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on April 16, 2012 for FCC Form 180, the Application to Participate in an Auction for Mobility Fund Phase I Support (OMB Control Number 3060-1166), and on April 27, 2012 for FCC Form 680, the Application for Mobility Fund Phase I Support (OMB Control Number 3060-1168). These two information collections are contained in the modifications to the Commission's rules in 47 CFR 1.21001(b) through (d); 1.21002(c) and (d); 1.21004(a); and 54.1003; 54.1004(a), (c), and (d); 54.1005(a) and (b); 54.1006(a) through (e); 54.1007(a) and (b); 54.1008(a) and (e) as adopted in the Order.

Under 5 CFR 1320, an agency may not conduct or sponsor a collection of information unless it displays a current, valid OMB Control Number.

No person shall be subject to any penalty for failing to comply with a collection of information subject to the Paperwork Reduction Act that does not display a current, valid OMB Control Number. The OMB Control Numbers are 3060-1166 and 3060-1168.

The foregoing notice is required by the Paperwork Reduction Act of 1995, Pub. L. 104-13, October 1, 1995, and 44 U.S.C. 3507.

The total annual reporting burdens and costs for the respondents are as follows:

OMB Control Number: 3060-1166.

OMB Approval Date: April 16, 2012.

OMB Expiration Date: April 30, 2015.

Title: Application To Participate in an Auction for Mobility Fund Phase I Support, FCC Form 180.

Form Number: SF-180.

Respondents: Business or other for-profit entities; Not-for-profit institutions; State, Local or Tribal Governments.

Number of Respondents and Responses: 250 respondents; 250 responses.

Estimated Time per Response: 1.5 hours.

Frequency of Response: On occasion.

Obligation To Respond: Required to obtain or retain benefits.

Total Annual Burden: 375 hours.

Total Annual Cost: None.

Nature and Extent of Confidentiality: There is no need for confidentiality. The information to be collected will be made available for public inspection. Applicants may request materials or information submitted to the Commission be given confidential treatment under 47 CFR 0.459.

Needs and Uses: The Commission will use the information collected to determine whether applicants are eligible to participate in the Mobility Fund Phase I auction. On November 18, 2011, the Federal Communications Commission released the Order, WC Docket Nos. 10-90, 07-135, 05-337, 03-109; GN Docket No. 09-51; CC Docket Nos. 01-92, 96-45; WT Docket No. 10-208; FCC 11-161 and on February 3, 2012, released a Bureau Order, DA 12-147, which adopted rules to govern the Mobility Fund Phase I, implemented as part of the Connect America Fund. In adopting the rules, the Commission provided for one-time support to immediately accelerate deployment of networks for mobile broadband services in unserved areas. Mobility Fund Phase I support will be awarded through a nationwide reverse auction. The information collection process for the Mobility Fund Phase I auction is similar to that used in spectrum license auctions. This approach provides an appropriate screen to ensure serious participation without being unduly burdensome.

OMB Control Number: 3060-1168.

OMB Approval Date: April 27, 2012.

OMB Expiration Date: April 30, 2015.

Title: Application for Mobility Fund Phase I Support, FCC Form 680.

Form Number: SF-680.

Respondents: Business or other for-profit entities; Not-for-profit institutions; State, Local or Tribal Governments.

Number of Respondents and Responses: 250 respondents; 250 responses.

Estimated Time per Response: 1.5 hours.

Frequency of Response: On occasion.

Obligation To Respond: Required to obtain or retain benefits.

Total Annual Burden: 375 hours.

Total Annual Cost: None.

Nature and Extent of Confidentiality: There is no need for confidentiality. The information to be collected will be made available for public inspection. Applicants may request materials or information submitted to the Commission be given confidential treatment under 47 CFR 0.459.

Needs and Uses: The Commission will use the information collected from winning bidders in the Mobility Fund Phase I auction to evaluate applications for Mobility Fund Phase I support. On November 18, 2011, the Federal Communications Commission released the Order, WC Docket Nos. 10-90, 07-135, 05-337, 03-109; GN Docket No. 09-51; CC Docket Nos. 01-92, 96-45; WT Docket No. 10-208; FCC 11-161 and on February 3, 2012, released a Bureau Order, DA 12-147, which adopted rules to govern the Mobility Fund Phase I, implemented as part of the Connect America Fund. In adopting the rules, the Commission provided for one-time support to immediately accelerate deployment of networks for mobile broadband services in unserved areas. Mobility Fund Phase I support will be awarded through a nationwide reverse auction. Applicants with winning bids will provide this information to obtain the Mobility Fund Phase I support.

Federal Communications Commission.
Marlene H. Dortch,
Secretary.

[FR Doc. 2012-13491 Filed 6-4-12; 8:45 am]

BILLING CODE 6712-01-P